DEPARTMENT OF ENERGY

Bonneville Power Administration

Umatilla Generating Project

AGENCY: Bonneville Power Administration (BPA), Department of Energy (DOE).

ACTION: Notice of availability of Record of Decision (ROD).

SUMMARY: This notice announces the availability of the ROD to offer contract terms for integrating power from the Umatilla Generating Project into the Federal Columbia River Transmission System. This decision is based on input from public processes and information in the Umatilla Generating Project Environmental Impact Statement (DOE/EIS-0324, January 2002). The Umatilla Generating Project is a 550-megawatt gas-fired, combined-cycle, combustion-turbine power generation project, located near Hermiston, Oregon, which will help meet the short-term need and future demand for energy resources.

ADDRESSES: Copies of the Umatilla Generating Project ROD and the Umatilla Generating Project EIS may be obtained by calling BPA's toll-free document request line: 1-800-622-4520.

FOR FURTHER INFORMATION CONTACT: Inez S. Graetzer, KEC-4, Bonneville Power Administration, P.O. Box 3621, Portland, Oregon, 97208-3621, telephone number 503-230-3786; fax number 503-230-5699; e-mail isgraetzer@bpa.gov.

Issued in Portland, Oregon, on September 27, 2002.
Stephen J. Wright,
Administrator and Chief Executive Officer.

[FR Doc. 02-25530 Filed 10-7-02; 8:45 am]

BILLING CODE 6450-01-P